DEPARTMENT OF VETERANS AFFAIRS

[OMB Control No. 2900-0739]

Agency Information Collection (Address Request Authorized by “Access to Financial Records”) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 20, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0739” in any correspondence.

FOR FURTHER INFORMATION CONTACT: Crystal Rennie, Enterprise Records Service (005R1B), Department of Veterans Affairs, 810 Vermont Avenue NW, Washington, DC 20420, (202) 632-7492 or email crystal.rennie@va.gov. Please refer to “OMB Control No. 2900-0739.”

SUPPLEMENTARY INFORMATION: Title: Address Request Authorized by 38 CFR 3.115 “Access to Financial Records”.

OMB Control Number: 2900-0739.

Type of Review: Extension of a currently approved collection.

Abstract: Under 38 CFR 3.115, VA is authorized to request access to financial records to obtain the current address of beneficiaries from financial institutions in receipt of a VA direct deposit payment. VA will only request the current address for beneficiaries whose mail was returned to VA.

An agency may not conduct or sponsor, and a person is not required to respond to a collection of information unless it displays a currently valid OMB control number. The Federal Register Notice with a 60-day comment period soliciting comments on this collection of information was published August 3, 2015 at [80 FR 46106].

Affected Public: Individuals or Households.

Estimated Annual Burden: 4,167 hours.

Estimated Average Burden per Respondent: 5 minutes.

Frequency of Response: On-occasion.

Estimated Number of Respondents: 50,000.

By direction of the Secretary.
Kathleen M. Manwell,
Program Analyst, VA Privacy Service, Office of Privacy and Records Management, Department of Veterans Affairs.

[FR Doc. 2015-26657 Filed 10-20-15; 8:45 am]

BILLING CODE 8320-01-P